DEPARTMENT OF THE INTERIOR

Bureau of Land Management

[WO-310-1310-PB-24-1A]

Extension of Approved Information Collection, OMB Control Number 1004-0136

AGENCY: Bureau of Land Management, Interior.

ACTION: Notice and request for comments.

SUMMARY: In accordance with the Paperwork Reduction Act of 1995, the Bureau of Land Management (BLM) is requesting the Office of Management and Budget (OMB) to extend an existing approval to collect certain information from oil and gas operators who submit an Application for Permit to Drill (Form 3160-3). We use the information to review technical and environmental factors in the process of approving proposed oil and gas drilling operations.

DATES: You must submit your comments to BLM at the address below on or before April 7, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0136” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Barbara Gamble, Fluid Minerals Group, on (202) 452-0338 (Commercial or FTS). Persons who use a telecommunication device for the deaf (TDD) may call the Federal Information Relay Service (FIRS) on 1-800-877-8330, 24 hours a day, seven days a week, to contact Ms. Gamble.

SUPPLEMENTARY INFORMATION: 5 CFR 1320.12(a) requires that we provide a 60-day notice in the Federal Register concerning a collection of information to solicit comments on:

(a) Whether the proposed collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

The Mineral Leasing Act of 1920 (30 U.S.C. 181 et seq.), as amended; the Mineral Leasing Act for Acquired Lands of 1947 (30 U.S.C. 351-359), as amended; the various Indian leasing acts; the National Environmental Policy Act of 1969 (42 U.S.C. 4321 et seq.), as amended, and other environmental laws govern onshore oil and gas operations. BLM's implementing regulations are at 43 CFR part 3160. The regulation 43 CFR 3162.3-1 requires an oil and gas well operator to submit an Application for Permit to Drill (Form 3160-3) for each well at least 30 days before any drilling operations or surface disturbances are commenced. On the form, we request respondents to provide information describing the proposed activities, including the type of well and work anticipated, the operator's identity and address, surface and bottom-hole location of the proposed action, and various kinds of technical data, depending on the type of activity proposed.

We use the data for review and approval of proposed drilling operations. The review ensures that all actions are in compliance with policies and regulations and conducted in a technically and environmentally sound manner. We use technical data about the drilling for both permit approval and subsequent on-the-ground review and inspection after actual drilling begins. We gather information on prospective production of resources so that all potential impacts can be evaluated during the approval process.

If we did not collect this information, BLM would not have proper assurance that drilling and associated activities are technically and environmentally feasible to ensure proper conservation of the resources. We also require operators to prepare certain items such as drilling plans, diagrams and maps, and contingency plans. Operators generally submit these items as attachments to Form 3160-3. We include the burden hours for such attachments under OMB control number 1004-0134, which covers all nonform requirements of 43 CFR part 3160.

Based on our experience administering the onshore oil and gas program, we estimate the public reporting burden for the information collected is 30 minutes per response. Respondents are operators of oil and gas wells. The frequency of response varies depending on the operations. We estimate the number of responses per year is 4,000 and the total annual burden is 2,000 hours.

BLM will summarize all responses to this notice and include them in the request for OMB approval. All comments will become a matter of public record.

Dated: January 31, 2003.
Michael H. Schwartz,
Bureau of Land Management, Information Collection Clearance Officer.

[FR Doc. 03-2692 Filed 2-3-03; 8:45 am]

BILLING CODE 4310-84-M